DEPARTMENT OF AGRICULTURE

Advisory Committee on Biotechnology and 21st Century Agriculture; Renewal

AGENCY: Agricultural Research Service, USDA.

ACTION: Advisory Committee on Biotechnology and 21st Century Agriculture Renewal.

SUMMARY: Notice is hereby given that the Secretary of Agriculture has renewed the Advisory Committee on Biotechnology and 21st Century Agriculture (AC21). The Secretary of Agriculture has determined that the Committee is necessary and in the public interest.

FOR FURTHER INFORMATION CONTACT: Questions should be addressed to Michael Schechtman, Designated Federal Official, telephone (202) 720-3817; fax (202) 690-4265; email AC21@ars.usda.gov.

SUPPLEMENTARY INFORMATION: USDA believes it is important to maintain an intensive and regular dialogue to explore and understand the broad array of issues related to the expanding dimensions and importance of agricultural biotechnology. The AC21 has been established to provide information and advice to the Secretary of Agriculture on issues related to agricultural biotechnology. The purpose of this Committee is to advise the Secretary of Agriculture on the broad array of issues related to the expanding dimensions and importance of agricultural biotechnology.

Dated: January 23, 2013.
Catherine Woteki,
Under Secretary for Research, Education, and Economics.

[FR Doc. 2013-02175 Filed 1-31-13; 8:45 am]

BILLING CODE 3410-03-P